DEPARTMENT OF THE INTERIOR

Bureau of Indian Affairs

Bureau of Land Management

[LLNM004400. L16100000.DO0000.LXSSG0690000 19XL1109AF]

Notice of Availability of the Oklahoma, Kansas, and Texas Final Joint Environmental Impact Statement, Bureau of Land Management Proposed Resource Management Plan and Bureau of Indian Affairs Proposed Integrated Resource Management Plan

AGENCY: Bureau of Land Management, Interior; and Bureau of Indian Affairs, Interior.

ACTION: Notice of Availability.

SUMMARY: In accordance with the National Environmental Policy Act of 1969 (NEPA), as amended, and the Federal Land Policy and Management Act of 1976, as amended, the Bureau of Land Management (BLM) and Bureau of Indian Affairs (BIA) have prepared a Final Joint Environmental Impact Statement (FJEIS) for the BLM Proposed Resource Management Plan (P-RMP), the Bureau of Indian Affairs (BIA) Proposed Integrated Resource Management Plan (P-IRMP) for the BLM Oklahoma Field Office, the BIA Eastern Oklahoma Regional Office, and the BIA Southern Plains Regional Office, and by this Notice is announcing the opening of the protest period.

DATES: Pursuant to the BLM planning regulations at 43 CFR 1610.5-2, any person who participated in the land use planning process associated with the development of these proposed land use plans and has an interest that could be adversely impacted by these management decisions can protest the management decisions within 30 days of the date the U.S. Environmental Protection Agency publishes the Notice of Availability of the Oklahoma, Kansas, and Texas FJEIS/BLM P-RMP/BIA P-IRMP.

ADDRESSES: The Oklahoma, Kansas, and Texas FJEIS/BLM P-RMP/BIA P-IRMP is available online in the Documents and Reports section of the BLM e-Planning project website at: https://go.usa.gov/xVPk3.

Protests must be made in writing (43 CFR 1610.5-2(a)(1)) and filed with the BLM Director, either as a hard copy or electronically via the BLM's e-Planning website listed above. To submit an electronic protest, go to the project website and select the “Documents & Reports” link at the left, then select “Submit Protest” next to the Final Joint Environmental Impact Statement (FJEIS). Upon selection of the “Submit Protest” button, a new window will open that will guide you through the submission process. Printed “hard copy” protest submissions must be mailed to one of the following addresses, and postmarked by the end of the protest period. Via mail: Director (210), Attn: Protest Coordinator, P.O. Box 71383, Washington, DC 20024-1383; Via Overnight Delivery: Director (210), Attn: Protest Coordinator, 20 M Street SE, Room 2134LM, Washington, DC 20003.

Copies of the Oklahoma, Kansas, and Texas FJEIS/BLM P-RMP/BIA P-IRMP are available upon request from:

• The Bureau of Land Management, Oklahoma Field Office, Attn.: Patrick Rich, RMP Team Lead, 201 Stephenson Parkway, Suite 1200, Norman, OK 73072.

• BIA Eastern Oklahoma Regional Office, Attn.: Mosby Halterman, P.O. Box 8002, Muskogee, Oklahoma 74402-8002.

• BIA Southern Plains Regional Office, Attn.: David Anderson, P.O. Box 368, Anadarko, Oklahoma 73005-0368.

• The Bureau of Land Management, New Mexico State Office, 301 Dinosaur Trail, Santa Fe, NM 87508.

• Copies of the Oklahoma, Kansas and Texas FJEIS/BLM P-RMP/BIA P-IRMP are also available for public inspection at the BLM New Mexico State Office, 301 Dinosaur Trail, Santa Fe, New Mexico 87508 and at the BLM Oklahoma Field Office, 201 Stephenson Parkway, Suite 1200, Norman, OK 73072.

FOR FURTHER INFORMATION CONTACT: Patrick Rich, RMP Team Lead, telephone (405) 579-7154; address 201 Stephenson Parkway, Suite 1200, Norman, OK 73072; email BLM_NM_OKT_RMP@blm.gov. Persons who use a telecommunications device for the deaf (TDD) may call the Federal Relay Service (FRS) at (800) 877-8339 to contact the above individual during normal business hours. The FIRS is available 24 hours a day, 7 days a week, to leave a message or question with the above individual. You will receive a reply during normal business hours.

SUPPLEMENTARY INFORMATION: In the Oklahoma, Kansas, and Texas FJEIS/BLM P-RMP/BIA P-IRMP, the BLM and BIA analyze the environmental consequences of four alternatives under consideration for managing Federal lands and minerals within the Oklahoma-Kansas-Texas planning area. The BLM Oklahoma Field Office administers approximately 15,100 acres of public surface estate, including approximately 11,833 acres at the Cross Bar Management Area near Amarillo, Texas; about 3,300 acres of small tracts scattered across the planning area; and Federal lands along the 116-mile stretch of the Red River between the North Fork of the Red River and the 98th Meridian. No exact acreages of Federal lands along the Red River are available at this time because the full 116-mile stretch of land has not been surveyed. The Oklahoma Field Office also administers approximately 4,810,900 acres of subsurface Federal mineral estate across the 269,650,000-acre planning area, to include approximately 4,012,400 acres underlying surface estate managed by other Federal surface management agencies, such as U.S. Fish and Wildlife Service, U.S. Forest Service, and National Park Service, and approximately 785,300 acres of split-estate, where Federal minerals underlie private surface estate.

The BIA decision area includes approximately 394,200 surface acres and 2,033,500 mineral estate acres for the BIA Eastern Oklahoma Regional Office. Approximately 1,474,500 acres of the BIA Eastern Oklahoma Regional Office jurisdictional area is limited to coal or other minerals in Osage County. The BIA decision area also includes approximately 457,500 surface acres and 632,000 mineral estate acres for the BIA Southern Plains Regional Office. This includes lands and mineral estate in Oklahoma, Kansas, Texas, and Richardson County, Nebraska.

The BLM is the lead agency for development of the land use plan, while the BIA Regional Offices are co-lead planning partners on this joint, integrated land use planning effort. The Oklahoma, Kansas, and Texas FJEIS/BLM P-RMP/BIA P-IRMP provides a comprehensive, integrated land use plan that will replace the BLM's current 1994 Oklahoma RMP, as amended; the 1991 Kansas RMP; and the 1996 Texas RMP, as amended. Land use plan revision and consolidation is necessary due to numerous changes, including renewable energy, recreation, special status species, visual resources, and wildlife habitat which have occurred across the Oklahoma, Kansas, and Texas planning area since previous plan publications. New resource data are available for consideration, and new policies, guidelines, and laws have been established.

The four alternatives analyzed in the Oklahoma, Kansas, and Texas FJEIS/BLM P-RMP/BIA P-IRMP are as follows:

• Alternative A (No Action Plan) is a continuation of existing land use management actions under the current Kansas, Oklahoma, and Texas RMPs and associated amendments;

• Alternative B (Proposed Alternative) represents a mix of resource use and resource value conservation stewardship principles and management decisions that address current and reasonably foreseeable future land use management issues, including provisions for energy development, recreational opportunities, and conservation of natural resources;

• Alternative C (Environmental Focused Plan) represents a land use management strategy intended primarily to preserve and protect ecosystem health and resource values across the planning area; and

• Alternative D (Resource Use Focused Plan) represents a land use management strategy intended primarily to develop resources and promote economic development across the decision area, such as livestock grazing, energy and mineral development, and recreation.

This land use planning effort was initiated on July 26, 2013, through a Notice of Intent published in the Federal Register (78 FR 45266), notifying the public of a formal scoping period and soliciting public participation. The BLM and BIA held 17 scoping meetings between November 2013 and January 2014, throughout Kansas, Oklahoma, and Texas, with stakeholders, interest groups, and the public. During this external scoping period, the public provided the BLM Oklahoma Field Office with input on relevant issues to consider during the land use planning process. Additional information was collected during three additional workshops, one each in Kansas, Oklahoma, and Texas, with the public and cooperating agencies. Based on these issues, conflicts, information, and the BLM and BIA goals and objectives for this planning effort, the BLM-BIA Interdisciplinary Team formulated three action alternatives for consideration and analysis in the Draft Oklahoma, Kansas, and Texas FJEIS/BLM P-RMP/BIA P-IRMP.

The public comment period for the Oklahoma, Kansas, and Texas FJEIS/BLM P-RMP/BIA P-IRMP was initiated on November 19, 2018, through a Federal Register Notice of Availability (83 FR 58283), notifying the public of the release of the draft land use plan for an extended 125-day public comment period, which occurred from November 19, 2018, until March 24, 2019, and solicitation of public comments. Seventy-two cooperating agencies expressed interest in collaborating with the BLM and BIA during the NEPA process and signed a formal cooperating agency agreements.

The BLM and BIA held six public meetings between February 2019 and March 2019, throughout Oklahoma, Kansas, and Texas, with stakeholders, interest groups, and the public. Public meetings were hosted to solicit public input on the Draft Oklahoma, Kansas, and Texas FJEIS/BLM P-RMP/BIA P-IRMP as follows: Wichita, KS, on February 26, 2019; Muskogee, OK, on February 27, 2019; Norman, OK, on February 28, 2019; Amarillo, TX, on March 4, 2019; Fort Worth, TX, on March 5, 2019; and Corpus Christi, TX, on March 8, 2019. In total, 110 attendees participated in the six public meetings and offered oral and written comments to the BLM and BIA. Following the closing of the 125-day public comment period, the BLM and BIA held an internal 5-day conference at the BLM Oklahoma Field Office where an interdisciplinary team of resource management experts reviewed the 150 substantive comment submissions for potential revision of the Draft Oklahoma, Kansas, and Texas FJEIS/BLM P-RMP/BIA P-IRMP in preparation for release of the OKT Final Joint EIS, BLM P-RMP and BIA P-IRMP. All comments on the Draft EIS/RMP were given careful consideration, with necessary revisions incorporated into the FJEIS and plans, as appropriate. Public comments and BLM responses are available in Appendix O of the Final EIS.

At the close of the 30-day protest period, the BLM and BIA will resolve protests on the Oklahoma, Kansas, and Texas FJEIS/BLM P-RMP/BIA P-IRMP in preparation for the Approved BLM RMP, Approved BIA IRMP, three Records of Decision (ROD) to include one ROD for the BLM Oklahoma Field Office; one ROD for the BIA Eastern Oklahoma Regional Office; and one ROD for the BIA Southern Plains Regional Office.

Before including your address, phone number, email address, or other personal identifying information in your protest, you should be aware that your entire protest—including your personal identifying information—may be made publicly available at any time. While you can ask us in your comment to withhold your personal identifying information from public review, we cannot guarantee that we will be able to do so.

Authority: 40 CFR 1506.6, 40 CFR 1506.10, 43 CFR 1610.2.

Timothy R. Spisak,
BLM New Mexico State Director.
Eddie Streater,
BIA Eastern Oklahoma Regional Director.
Jim Schock,
BIA Southern Plains Regional Director.

[FR Doc. 2019-23823 Filed 10-31-19; 8:45 am]

BILLING CODE 4310-FB-P